FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 7, 2016.

A. Federal Reserve Bank of Dallas (Robert L. Triplett III, Senior Vice President) 2200 North Pearl Street, Dallas, Texas 75201-2272:

1. Lee Equity Partners, LLC, Lee Equity Partners Realization Fund, L.P., Lee Equity Strategic Partners Realization Fund, L.P., Lee Equity Partners Realization Fund GP, LLC, and LEP Carlile Holdings, LLC, all of New York, New York; AlpInvest Partners B.V., AlpInvest Partners US Secondary Investments 2015 I CV, AlpInvest Partners Secondary Investments 2015 I B.V., AlpInvest Partners US Secondary Investments 2014 II CV, AlpInvest Partners 2014 II B.V., AM 2014 Secondary CV, AlpInvest Mich B.V., AM 2015 Secondary CV, AlpInvest Partners US Secondary Investments 2015 II CV, AlpInvest Partners Secondary Investments 2015 II B.V., AlpInvest Secondaries Fund (Euro) V CV, AlpInvest SF V. B.V., AlpInvest Secondaries Fund V CV, AlpInvest Partners US Secondary Investments 2014 I CV, AlpInvest Partners 2014 I B.V., GGG US Secondary CV, AlpInvest GGG B.V., GGG US Secondary 2015 CV, AP H Secondaries CV, AP H Secondaries B.V., AP Fondo Secondaries CV, AlpInvest Fondo B.V., AlpInvest GA Secondary CV, AlpInvest GA B.V., AlpInvest A2 Investment Fund CV, AlpInvest United B.V., and AlpInvest A2 Investment Fund II CV, all of Amsterdam, The Netherlands; and AlpInvest Partners US Secondary Investments 2014 I, LLC, and AlpInvest US Holdings, LLC, both of New York, New York; HarbourVest Partners, LLC, HarborVest Partners L.P., Dover Street VIII L.P., Dover VIII Associates L.P., Dover VIII Associates LLC, HarbourVest Global Annual Private Equity Fund L.P., HarbourVest Global Associates L.P., HarbourVest Global Associates LLC, HarbourVest 2015 Global Fund L.P., HarbourVest 2015 Global Associates L.P., HarbourVest 2015 Global Associates LLC, HarbourVest Partners X Secondary L.P., HarbourVest X Associates LLC, HarbourVest Partners IX-Credit Opportunities Fund L.P., HarbourVest IX-Credit Opportunities Associates L.P., HarbourVest IX-Credit Opportunities Associates LLC, HIPEP Associates, LLC, and HIPEP VII Secondary L.P., all of Boston, Massachusetts; and other affiliates; to control directly or indirectly Carlile Bancshares, Inc., Fort Worth, Texas, and therefore, indirectly, NorthStar Bank of Texas, Denton, Texas, and NorthStar Bank of Colorado, Denver, Colorado.

Board of Governors of the Federal Reserve System, February 16, 2016.
Michael J. Lewandowski,
Associate Secretary of the Board.

[FR Doc. 2016-03500 Filed 2-19-16; 8:45 am]

BILLING CODE 6210-01-P